DEPARTMENT OF COMMERCE

INTERNATIONAL TRADE ADMINISTRATION

[A-423-808]

Stainless Steel Plate in Coils From Belgium: Final Results of Antidumping Duty Administrative Review

AGENCY: Import Administration, International Trade Administration, Department of Commerce.

ACTION: Notice of Final Results of Antidumping Duty Administrative Review.

SUMMARY: On February 26, 2001, the Department of Commerce (the Department) published the preliminary affirmative results of the antidumping duty administrative review on stainless steel plate in coils (SSPC) from Belgium (66 FR 11559) (Preliminary Results). The review covers exports of this merchandise to the United States for the period November 4, 1998 through April 30, 2000, by ALZ, N.V. (ALZ), a manufacturer and exporter of subject merchandise.

Based on our analysis of the comments received, we have made changes in the margin calculations. The final dumping margin for the reviewed firm is listed below in the section entitled “Final Results of Review.”

EFFECTIVE DATE: November 7, 2001.

FOR FURTHER INFORMATION CONTACT: Elfi Blum or Abdelali Elouaradia, Import Administration, International Trade Administration, U.S. Department of Commerce, 14th Street and Constitution Avenue NW., Washington, DC 20230 at (202) 482-0197 or (202) 482-1374, respectively.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR Part 351 (2000).

Background

In its Preliminary Results, the Department assigned to ALZ, as adverse facts available (AFA), the highest calculated rate from the petition, 16 percent, given that the company withdrew from the review and requested that its questionnaire responses be removed from the record. The Department also invited parties to submit additional information if they considered such information more appropriate or relevant for use as AFA. On February 23, 2001, Allegheny Ludlum, AK Steel Corporation, J&L Specialty Steel Inc., North American Stainless, Butler-Armco Independent Union, Zanesville Armco Independent Union, and the United Steelworkers of America, AFL-CIO/CLC (petitioners) submitted comments proposing that the Department calculate ALZ's dumping margin using, as AFA, ALZ's public summary of its proprietary questionnaire responses. On March 5, 2001, ALZ submitted a response to petitioners' proposed margin calculations. On March 28, 2001, petitioners filed their case briefs. On April 2, 2001, ALZ filed a rebuttal brief. The Department has conducted this administrative review in accordance with section 751 of the Act.

Scope of Reviews

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process.

The merchandise subject to these orders is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and Customs purposes, the written description of the scope of the orders is dispositive.

Period of Review

This is the first administrative review. The period of review (POR) is November 4, 1998 through April 30, 2000.

Facts Available

Consistent with our Preliminary Results, we have applied AFA with respect to ALZ for purposes of the final results of this review. For a detailed discussion of our application, selection, and corroboration of facts available, see Preliminary Results, 66 FR at 11561. However, since the Preliminary Results, we have re-examined the information on which the preliminary margin, calculated on the basis of the price-to-constructed value (CV) comparison, was based. We found that the CV has increased in the POR. To the extent that POR information was reasonably available to us, we recalculated this margin. Specifically, we recalculated the factory overhead, selling and general expenses and profit ratios, using ALZ's 1998, 1999 and 2000 publicly-available financial statements. We applied the weighted-average of these ratios to the original base cost to get the total CV. Finally, we compared the CV to the net U.S. price in the original petition, which resulted in a margin of 24.43 percent. See Memorandum to Barbara E. Tillman through Sally Gannon from Abdelali Elouaradia: Total Adverse Facts Available Calculation Memorandum, October 24, 2001 (Calculation Memorandum).

Corroboration

For the Preliminary Results, in accordance with section 776(c) of the Act, to the extent practicable, we examined the key elements of the export price and normal value calculations on which the margins in the petition were based. As stated above, we have recalculated the margin using information from ALZ's most recent financial statements. See Calculation Memorandum. Because this is ALZ's own information from its audited financial statements, which are publicly available, it needs no further corroboration. Accordingly, we find the margin used in these final results to be corroborated to the extent practicable. See Certain Cut-to-Length Carbon Steel Plate from Mexico: Final Results of Antidumping Duty Administrative Review, 64 FR 76, 84 (January 4, 1999).

Analysis of Comments Received

All issues raised in the case and rebuttal briefs by parties to this administrative review are addressed in the “Issues and Decision Memorandum” (Decision Memorandum) from Joseph A. Spetrini, Deputy Assistant Secretary, AD/CVD Enforcement Group III, to Faryar Shirzad, Assistant Secretary for Import Administration, dated October 24, 2001, which is hereby adopted by this notice.

A list of the issues which parties have raised and to which we have responded, all of which are in the Decision Memorandum, is attached to this notice as an Appendix. Parties can find a complete discussion of all issues raised in this review and the corresponding recommendations in this public memorandum which is on file in the Central Records Unit, located in room B-099 of the main Department of Commerce Building. In addition, a complete version of the Decision Memorandum can be accessed directly on the Web at http://ia.ita.doc.gov. The paper copy and electronic version of the Decision Memorandum are identical in content.

Final Results of Review

As a result of our review covering the period of November 4, 1998 through April 30, 2000, we determine that the dumping margin for ALZ, based on total AFA, is as follows:

Manufacturer/exporter | Margin (percent)
ALZ, N.V | 24.43

Liquidation

The Department shall determine, and U.S. Customs Service (Customs) shall assess, antidumping duties on all appropriate entries. These final results of review shall be the basis for the assessment of antidumping duties on entries of merchandise covered by this review. For ALZ, we based the assessment rate on the facts available margin percentage. We will direct Customs to assess the resulting percentage margin against the entered Customs values for the subject merchandise on each of ALZ's entries under the relevant order during the POR.

Cash Deposit Requirements

The following deposit requirements will be effective upon publication of this notice of final results of administrative review for all shipments of SSPC from Belgium entered, or withdrawn from warehouse, for consumption on or after the date of publication, as provided by section 751(a)(1) of the Act: (1) The cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 9.86 percent. This rate is the “All Others” rate from the LTFV investigation (see Notice of Final Determination of Sales at Less Than Fair Value: Stainless Steel Plate in Coils from Belgium, 64 FR 15476 (March 31, 1999)). These deposit requirements shall remain in effect until publication of the final results of the next administrative review.

This notice also serves as a final reminder to importers of their responsibility under 19 CFR 351.402(f) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: October 24, 2001.
Richard W. Moreland,
Acting Assistant Secretary for Import Administration.

Appendix

List of Issues

Selection of the Appropriate Adverse Facts Available Margin.

[FR Doc. 01-27976 Filed 11-6-01; 8:45 am]

BILLING CODE 3510-DS-P